DEPARTMENT OF THE INTERIOR

Fish and Wildlife Service

50 CFR Part 17

[FWS-R1-ES-2011-N020; 10120-1113-0000-C2]

Endangered and Threatened Wildlife and Plants; Revised Recovery Plan for the Northern Spotted Owl (Strix occidentalis caurina)

AGENCY: Fish and Wildlife Service, Interior.

ACTION: Notice of document availability: revised recovery plan.

SUMMARY: We, the U.S. Fish and Wildlife Service, announce the availability of the Revised Recovery Plan for the Northern Spotted Owl (Strix occidentalis caurina), a northwestern U.S. species listed as threatened under the Endangered Species Act (Act). The Act requires the development of recovery plans for listed species, unless such a plan would not promote the conservation of a particular species. Recovery plans help guide conservation efforts by describing actions considered necessary for the recovery of the species, establishing criteria for downlisting or delisting listed species, and estimating time and cost for implementing the measures needed for recovery.

DATES: Effective July 1, 2011.

ADDRESSES: Electronic copies of the revised recovery plan are available online at: http://www.fws.gov/endangered/species/recovery-plans.html and http://www.fws.gov/species/nso. Loose-leaf printed copies of the revised recovery plan are available by request from the State Supervisor, U.S. Fish and Wildlife Service, Oregon Fish and Wildlife Office, 2600 SE 98th Avenue, Suite 100, Attention: Diana Acosta, Portland, OR 97266 (phone: 503/231-6179).

FOR FURTHER INFORMATION CONTACT: Dr. Paul Henson, State Supervisor, at the above address and phone number.

SUPPLEMENTARY INFORMATION:

Background

Recovery of endangered or threatened animals and plants and the ecosystems upon which they depend is a primary goal of our endangered species program and the Endangered Species Act (Act) (16 U.S.C. 1531 et seq.). Recovery means improvement of the status of listed species to the point at which listing is no longer necessary under the criteria set out in section 4(a)(1) of the Act.

The Act requires the development of recovery plans for listed species unless such a plan would not promote the conservation of a particular species. Recovery plans help guide conservation efforts by describing such site-specific management actions as may be necessary to achieve the plan's goal for the conservation and survival of the species, establishing criteria for delisting in accordance with the provisions of section 4 of the Act, and estimating the time and cost for implementing those measures needed to achieve the plan's goal and intermediate steps toward that goal.

Section 4(f) of the Act requires that public notice and an opportunity for public review and comment be provided during recovery plan development. In fulfillment of this requirement, we made the Draft Revised Recovery Plan for the Northern Spotted Owl available for public review and comment from September 15 through November 15, 2010 (September 15, 2010; 75 FR 56131) and then extended the comment period from November 30 through December 15, 2010 (November 30, 2010; 75 FR 74073). In addition, we reopened the comment period from April 22 through May 23, 2011 (April 22, 2011; 76 FR 22720) on an updated version of Appendix C of the draft revised recovery plan, which describes the development of a spotted owl habitat modeling tool. As we prepared this final revised recovery plan, we considered information provided during the public comment periods. An appendix to the plan will guide readers to a Web address where summarized responses to comments can be reviewed.

The northern spotted owl (hereafter, spotted owl) was Federally listed as a threatened species on June 26, 1990 (55 FR 26114). The current range of the spotted owl extends from southwest British Columbia through the Cascade Mountains, coastal ranges, and intervening forested lands in Washington, Oregon, and California, as far south as Marin County. Spotted owls generally rely on older forested habitats, because such forests contain the structures and characteristics required for nesting, roosting, and foraging. Features that support nesting and roosting typically include a moderate to high forest canopy closure (60 to 90 percent); a multilayered, multispecies forest canopy with large overstory trees; a high incidence of large trees with various deformities (large cavities, broken tops, mistletoe infections, and other evidence of decadence); large snags (dead trees); large accumulations of fallen trees and other woody debris on the ground; and sufficient open space below the forest canopy for spotted owls to fly. Foraging habitat generally has attributes similar to nesting and roosting habitat, but may also include areas with less structural diversity and lower canopy cover. Habitat characteristics are known to vary across the range of the species.

The spotted owl was listed as threatened throughout its range due to the loss of suitable habitat to timber harvesting, exacerbated by catastrophic events such as fire and wind storms. Today we recognize past habitat loss, current habitat loss, and competition from barred owls (Strix varia) as the most pressing threats to spotted owl persistence. The recovery actions in this revised recovery plan are designed to address these and other threats within the range of the spotted owl.

In May of 2008, we published the Recovery Plan for the Northern Spotted Owl and announced its availability in the Federal Register (May 21, 2008; 73 FR 29471). The 2008 recovery plan formed the basis for our revised designation of spotted owl critical habitat, which we published in the Federal Register on August 13, 2008 (73 FR 47325). Both the 2008 critical habitat designation and the 2008 recovery plan were challenged in court: Carpenters' Industrial Council v. Salazar, Case No. 1:08-cv-01409-EGS (D.DC). In addition, on December 15, 2008, the Inspector General of the Department of the Interior issued a report entitled “Investigative Report of The Endangered Species Act and the Conflict between Science and Policy,” which concluded that the integrity of the agency decisionmaking process for the spotted owl recovery plan was potentially jeopardized by improper political influence. As a result, the Federal government filed a motion in the lawsuit for remand of the 2008 recovery plan and critical habitat designation. On September 1, 2010, the Court issued an opinion remanding the 2008 recovery plan to us for issuance of a revised plan within 9 months. On October 12, 2010, the Court remanded the 2008 critical habitat designation and ordered the Service to issue a new proposed critical habitat rule for public comment by November 15, 2010, and a final rule by November 15, 2012. On May 6, 2011, the Court granted our request for an extension of the due date for issuance of the final revised recovery plan until July 1, 2011. This notice announces the availability of the final revision to the 2008 recovery plan.

The revised recovery plan is based on a review of all relevant biology, including new scientific information that has become available and critical peer review comments we received on the 2008 recovery plan from three professional scientific associations: The Wildlife Society, the American Ornithologists' Union, and The Society for Conservation Biology. Like several previous plans for conserving and recovering the spotted owl, the 2008 recovery plan recommended a network of large habitat blocks, or Managed Owl Conservation Areas (MOCAs), intended to support long-term recovery of the species. The peer review comments, however, were critical of this network for several reasons, including that we did not use updated modeling techniques to design the network and assess its efficacy.

The revised recovery plan prioritizes recovery tasks aimed at: (1) Maintaining and managing for an adequate amount of spotted owl habitat across the species' range; (2) restoring natural processes in the dry forest landscapes such that the impacts of habitat loss through climate change are minimized; and (3) conducting large-scale experiments on the effects of barred owl removal in areas where the two species co-occur. The goal of this recovery plan is to improve the status of the spotted owl so that it no longer requires the protections of the Endangered Species Act.

The revised recovery plan is different from the 2008 recovery plan in several respects. We initiated a scientifically rigorous, multi-step, range-wide modeling effort to allow comparison of estimated spotted owl population performance among alternative habitat conservation scenarios and other conservation strategies. We are withdrawing our previous recommendation to implement the MOCA network identified in the 2008 recovery plan and instead recommend continuing to rely upon the Northwest Forest Plan and designated critical habitat. Until spotted owl population trends improve, the revised recovery plan also recommends conserving spotted owl sites and high value spotted owl habitat to provide additional demographic support to the spotted owl population and refugia from barred owls. The revised recovery plan also recognizes the possibility of needing additional conservation contributions from non-Federal lands. Finally, the revised recovery plan affirms our support for forest restoration management actions that address concerns about climate change and health of forest ecosystems and promote long-term spotted owl recovery.

Authority

The authority for this action is section 4(f) of the Endangered Species Act, 16 U.S.C. 1533(f).

Dated: June 6, 2011.
Robyn Thorson,
Regional Director, Region 1, U.S. Fish and Wildlife Service.

[FR Doc. 2011-16456 Filed 6-30-11; 8:45 am]

BILLING CODE 4310-55-P